DEPARTMENT OF THE INTERIOR

Fish and Wildlife Service

Endangered Species Permit Applications

AGENCY: Fish and Wildlife Service, Interior.

ACTION: Notice of receipt of permit applications.

SUMMARY: The following applicants have applied for a scientific research permit to conduct certain activities with endangered species pursuant to section 10 (a)(1)(A) of the Endangered Species Act of 1973, as amended (16 U.S.C. 1531 et seq.).

Permit No. TE-023496

Applicant: Endangered Species Recovery Program, Fresno, California.

The permittee requests a permit amendment to take (capture and radio-tag) the Tipton kangaroo rat (Dipodomys nitratoides nitratoides) throughout the species' range in conjunction with relocation efforts and population augmentation at Lemoore Naval Air Station, Kings County, California, for the purpose of enhancing its survival.

Permit No. TE-702631

Applicant: Assistant Regional Director-Ecological Services, Region 1, U.S. Fish and Wildlife Service, Portland, Oregon.

The permittee requests a permit amendment to take the northern California Evolutionarily Significant Unit of steelhead (Oncorhynchus mykiss) throughout the species' range in conjunction with recovery efforts for the purpose of enhancing its survival.

Permit No. TE-033313

Applicant: David Moore, Mobile, Alabama.

The applicant requests a permit to purchase, in interstate commerce, four female and four male captive bred Hawaiian (=nene) goose (Nesochen [=Branta] sandvicensis) for the purpose of enhancing the species propagation and survival.

DATES: Written comments on these permit applications must be received on or before October 27, 2000.

ADDRESSES: Written data or comments should be submitted to the Chief, Endangered Species, Ecological Services, Fish and Wildlife Service, 911 NE. 11th Avenue, Portland, Oregon 97232-4181; Fax: (503) 231-6243. Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above; telephone: (503) 231-2063. Please refer to the respective permit number for each application when requesting copies of documents.

Dated: September 19, 2000.
Rowan W. Gould,
Acting Regional Director, Region 1, Portland, Oregon.

[FR Doc. 00-24756 Filed 9-26-00; 8:45 am]

BILLING CODE 4310-55-P